DEPARTMENT OF LABOR

Employment and Training Administration

[TA-W-38,586, TA-W-38,586A]

OBG Manufacturing Company, OshKosh B'Gosh, Inc., Liberty, KY, and OBG Manufacturing Company, OshKosh B'Gosh, Inc., Albany, KY; Amended Certification Regarding Eligibility To Apply for Worker Adjustment Assistance

In accordance with Section 223 of the Trade Act of 1974 (19 U.S.C. 2273) the Department of Labor issued a Certification of Eligibility to Apply for Worker Adjustment Assistance on March 21, 2001, applicable to workers of OBG Manufacturing Company, OshKosh B'Gosh, Inc., Liberty, Kentucky. The notice was published in the Federal Register on April 16, 2001 (66 FR 19521).

At the request of the company, the Department reviewed the certification for workers of the subject firm. New information shows that worker separations occurred at the Albany, Kentucky facility of OBG Manufacturing Company, OshKosh B'Gosh, Inc. The workers are engaged in employment related to the production of children's apparel.

Accordingly, the Department is amending the certification to cover workers of OBG Manufacturing Company, OshKosh B'Gosh, Inc., Albany, Kentucky.

The intent of the Department's certification is to include all workers of OBG Manufacturing Company, OshKosh B'Gosh, Inc. adversely affected by increased imports.

The amended notice applicable to [TA-W-38,690] is hereby issued as follows:

All workers of OBG Manufacturing Company, OshKosh B'Gosh, Inc., Liberty, Kentucky (TA-W-38,586) and Albany, Kentucky (TA-W-38,586a) engaged in employment related to the production of children's apparel, who became totally or partially separated from employment on or after January 12, 2000 through March 21, 2003, are eligible to apply for adjustment assistance under Section 223 of the Trade Act of 1974.

Signed at Washington, DC this 13th day of August, 2001.
Linda G. Poole,
Certifying Officer, Division of Trade Adjustment Assistance.

[FR Doc. 01-21840 Filed 8-28-01; 8:45 am]

BILLING CODE 4510-30-M